ENVIRONMENTAL PROTECTION AGENCY

[FRL-7641-3]

Science Advisory Board Staff Office; Request for Nominations for Experts for the Perfluorooctanoic Acid Human Health Risk Assessment Review Panel

AGENCY: Environmental Protection Agency (EPA).

ACTION: Notice.

SUMMARY: The EPA Science Advisory Board (SAB) Staff Office announces the formation of a new SAB review panel known as the Perfluorooctanoic Acid Human Health Risk Assessment Review Panel (PFOA Review Panel), and is soliciting nominations for members of the Panel.

DATES: The deadline for submitting nominations is three (3) weeks from publication of this notice.

FOR FURTHER INFORMATION CONTACT: Nominations should be submitted in electronic format through the Form for Nominating Individuals to Panels of the U.S. Environmental Protection Agency (EPA) Science Advisory Board provided on the SAB Web site. The form can be accessed through a link on the blue navigational bar of the SAB Web site at: http://www.epa.gov/sab. To be considered, all nominations should include the information requested on that form. Anyone who is unable to access nominations on the SAB Web site can obtain a paper copy of the form by contacting Dr. Suhair Shallal, Designated Federal Officer (DFO), as indicated below.

Any member of the public requiring further information regarding this Request for Nominations, or a paper nomination form, may contact Dr. Shallal by telephone/voice mail at (202) 343-9977, via e-mail at shallal.suhair@epa.gov, or at the following address: Suhair Shallal, PhD., Science Advisory Board Staff Office, U.S. Environmental Protection Agency (Mail Code 1400F), 1200 Pennsylvania Avenue, NW., Washington, DC 20460. General information about the SAB can be found in the SAB Web site at: http://www.epa.gov/sab.

SUPPLEMENTARY INFORMATION: Summary: The EPA SAB Staff Office is announcing the formation of a new review panel and soliciting nominations for members of the panel. This panel is being formed to help provide advice to the Agency, as part of the SAB's mission, established by 42 U.S.C. 4365, to provide independent scientific and technical advice, consultation, and recommendations to the EPA Administrator on the technical bases for EPA policies and regulations. The work of this panel is expected to continue until the review is complete. The SAB is a chartered Federal Advisory Committee that reports directly to the Administrator. The PFOA Review Panel will provide advice through the SAB. The PFOA Review Panel will comply with the openness provisions of the Federal Advisory Committee Act (FACA) and all appropriate SAB procedural policies, including the SAB process for panel formation described in the Overview of the Panel Formation Process at the Environmental Protection Agency, Science Advisory Board (EPA-SAB-EC-COM-02-010), http://www.epa.gov/sab/pdf/ecm02010.pdf.

Background: EPA's Office of Pollution Prevention and Toxics has been studying perfluorooctanoic acid (PFOA) in order to understand the health and environmental impact of perfluorochemicals. PFOA is a synthetic (man-made) chemical and does not occur naturally in the environment. The term PFOA refers to not only perfluorooctanoic acid itself, but also its principal salts. The most commonly used chemical in this grouping is the ammonium salt, ammonium perfluorooctanoate, or APFO. PFOA is primarily used as a reactive intermediate, while its salts are used as processing aids in the production of fluoropolymers and fluoroelastomers and in other surfactant uses. Fluoropolymers are used in a wide variety of consumer and industrial applications. Although fluoropolymers are made using PFOA, the finished products themselves are not expected to contain PFOA. The EPA has completed its draft Risk Assessment of Potential Human Health Effects Associated with PFOA and Its Salts. The EPA Science Advisory Board (SAB) has been asked to review and comment on the scientific soundness of this assessment.

Request for Nominations: The EPA SAB Staff Office requests nominations of experts to serve as Panel members on the PFOA Review Panel. Areas of expertise sought include at least the following: (a) Toxicology of perfluorinated compounds and mechanism of toxicity; (b) Reproductive and Developmental Toxicity; (c) Toxicokinetics; (d) Carcinogenesis; (e) Public Health; (f) Epidemiology; and (g) Human Health Risk Assessment.

Process and Deadline for Submitting Nominations: Any interested person or organization may nominate qualified individuals to serve as panel members in the areas described above. The nominating form requests the following: (1) Contact information about the person making the nomination; (2) contact information about the nominee; (3) the disciplinary and specific areas of expertise of the nominee; (4) the nominee's resume; and (5) a general biosketch of the nominee indicating education, expertise, past research, recent service on other advisory committees or with professional associations, and recent grant and/or contract support. Anyone who is unable to submit nominations through the SAB Web site, or has questions concerning any aspect of the nomination process, may contact Dr. Shallal as indicated, above. Nominations should be submitted in time to arrive no later than three (3) weeks after publication of this notice.

From the nominees identified by respondents to this notice and through other sources (termed the “Widecast”), the SAB Staff Office will develop a smaller subset (known as the “Short List”) for more detailed consideration. Criteria used by the SAB Staff Office in developing this Short List are given at the end of the following paragraph. The SAB Staff Office will contact individuals who are considered for inclusion in the Short List to determine whether they are willing to serve on the Panel. The Short List will be posted on the SAB Web site at: http://www.epa.gov/sab, and will include, for each candidate, the nominee's name and their biosketch. The Short List also will be available from Dr. Shallal at the address listed above. Public comments will be accepted for 21 calendar days on the Short List. During this comment period, the public will be requested to provide information, analysis or other documentation on nominees that the SAB Staff Office should consider in evaluating candidates for the Panel. For the EPA SAB, a balanced Panel is characterized by inclusion of candidates who possess the necessary domains of knowledge, the relevant scientific perspectives (which, among other factors, can be influenced by work history and affiliation), and the collective breadth of experience to adequately address the charge. Public responses to the Short List candidates will be considered in the selection of the Panel members, along with information provided by candidates and information gathered by EPA SAB Staff Office independently on the background of each candidate (e.g., financial disclosure information and computer searches to evaluate a nominee's prior involvement with the topic under review). Specific criteria to be used in evaluating individual nominees include: (a) Scientific and/or technical expertise, knowledge, and experience (primary factors); (b) absence of financial conflicts of interest; (c) scientific credibility and impartiality; (d) availability and willingness to serve; and (e) ability to work constructively and effectively in panels.

Those Short List candidates ultimately chosen to serve on the Panel will be appointed as Special Government Employees (SGEs). Therefore, all Short List candidates will be required to fill out the “Confidential Financial Disclosure Form for Special Government Employees Serving on Federal Advisory Committees at the U.S. Environmental Protection Agency” (EPA Form 3110-48. This confidential form allows Government officials to determine whether there is a statutory conflict between that person's public responsibilities as an SGE and private interests and activities, or the appearance of a lack of impartiality, as defined by Federal regulation. The form may be viewed and downloaded from the following URL address: http://www.epa.gov/sab/pdf/epaform3110-48.pdf. As an SGE, EPA SAB members are required to abide by the letter and spirit of the ethical regulations to which all U.S. Government employees must adhere. SGEs are required to take annual ethics training in order to serve on the SAB.

Dated: March 23, 2004.
Richard Albores,
Acting Director, EPA Science Advisory Board Staff Office.

[FR Doc. 04-6926 Filed 3-26-04; 8:45 am]

BILLING CODE 6560-50-P